SECURITIES AND EXCHANGE COMMISSION

Sunshine Act Meetings

Notice is hereby given, pursuant to the provisions of the Government in the Sunshine Act, Public Law 94-409, that the Securities and Exchange Commission will hold the following meeting during the week of July 12, 2004:

An open meeting will be held on Wednesday, July 14, 2004, at 10 a.m., in room 1C30, the William O. Douglas Room.

The subject matter of the Open Meeting scheduled for Wednesday, July 14, 2004, will be:

1. The Commission will consider whether to propose rule 203(b)(3)-2 under the Investment Advisers Act of 1940 to require hedge fund advisers to register with the Commission. The Commission also will consider whether to propose certain conforming and transitional amendments to rules 203(b)(3)-1, 204-2, 205-3, 206(4)-2 and Form ADV.

For further information, please contact Vivien Liu at (202) 942-0719.

At times, changes in Commission priorities require alterations in the scheduling of meeting items. For further information and to ascertain what, if any, matters have been added, deleted or postponed, please contact: the Office of the Secretary at (202) 942-7070.

Dated: July 1, 2004.
Jonathan G. Katz,
Secretary.

[FR Doc. 04-15446 Filed 7-1-04; 4:00 pm]

BILLING CODE 8010-01-P